DEPARTMENT OF COMMERCE

National Oceanic and Atmospheric Administration

Proposed Information Collection; Comment Request; Emergency Beacon Registrations

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 11, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Joy Hargraves, (301) 817-4001 or Joy.Hargraves@noaa.gov.

SUPPLEMENTARY INFORMATION:

I. Abstract

This request is for an extension of a currently approved information collection.

An international system exists to use satellites to detect and locate ships, aircraft, and individuals in distress if they are equipped with an emergency radio beacon. Persons purchasing a digital distress beacon, operating in the frequency range of 406.000 to 406.100 MHz, must register it with NOAA. These requirements are contained in Federal Communications Commission (FCC) regulations at 47 CFR 80.1061, 47 CFR 87.199 and 47 CFR 95.1402. The data provided by registration can assist in identifying who is in distress and in suppression of false alarms.

II. Method of Collection

Paper and online registration is available.

III. Data

OMB Control Number: 0648-0295.

Form Number: None.

Type of Review: Regular submission (extension of a currently approved collection).

Affected Public: Individuals or households; business or other for-profit organizations; not-for-profit institutions; State, local, or tribal government.

Estimated Number of Respondents: 234,386.

Estimated Time per Response: 15 minutes.

Estimated Total Annual Burden Hours: 58,597.

Estimated Total Annual Cost to Public: $28,712 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 7, 2017.
Sarah Brabson,
NOAA PRA Clearance Officer.

[FR Doc. 2017-12066 Filed 6-9-17; 8:45 am]

BILLING CODE 3510-HR-P